DEPARTMENT OF ENERGY

Federal Energy Regulatory Commission

[Project No. 1025-054]

Safe Harbor Water Power Corporation; Notice of Availability of Environmental Assessment

July 23, 2003.

In accordance with the National Environmental Policy Act of 1969 and the Federal Energy Regulatory Commission's (Commission) regulations, 18 CFR part 380 (Order No. 486; 52 FR 47897), the staff of the Office of Energy Projects has prepared an Environmental Assessment (EA) for an application requesting Commission approval to allow the York Water Company use of the Safe Harbor Project lands and waters to withdraw 12 million gallons-per-day from Lake Clarke on the Susquehanna River for a municipal water supply. The project is located on the Susquehanna River in Lancaster and York Counties, Pennsylvania. The subject land does not involve federal or tribal lands.

The EA was attached to the Order Approving Non-Project Use of Project Lands and Water, issued on July 17, 2003. The EA contains the staff's analysis of the potential environmental impacts of the proposal and concludes that approval of the proposal would not constitute a major federal action that would significantly affect the quality of the human environment.

A copy of the EA is available for review at the Commission in the Public Reference Room, or it may be viewed on the Commission's Web site at http://www.ferc.gov using the “FERRIS” link. Enter the docket number (prefaced by P- and excluding the last three digits, in the docket number field to access the document. For assistance, call contact FERC Online Support at FERCOnlineSupport@ferc.gov or toll-free at (866) 208-3676, or TTY, contact (202) 502-8659.

For further information, contact Hillary Berlin at 202-502-8915.

Magalie R. Salas,
Secretary.

[FR Doc. 03-19386 Filed 7-30-03; 8:45 am]

BILLING CODE 6717-01-P